DEPARTMENT OF COMMERCE

National Oceanic and Atmospheric Administration

RIN 0648-XE638

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel to consider actions affecting New England fisheries in the exclusive economic zone (EEZ). Recommendations from this group will be brought to the full Council for formal consideration and action, if appropriate.

DATES: This meeting will be held on Tuesday, June 7, 2016 at 9:30 a.m.

ADDRESSES: Meeting address: The meeting will be held at the Hilton Garden Inn Boston Logan Airport, 100 Boardman Street, Boston, MA 02128; telephone: (617) 571-5478; fax: (617) 561-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel will review the general workload for 2016 based on Council priorities and a draft action plan for Scallop Framework 28 (FW28) and potentially identify recommendations for prioritizing work items in upcoming actions. The Advisory Panel will also review progress on potential management measures that may be included in FW28, including: (1) Measures to restrict the possession of shell stock inshore of 42°20′ N.; (2) Modifications to the process for setting scallop fishery annual catch limits (ACL flowchart); (3) Measures to modify scallop access areas consistent with potential changes to habitat and groundfish mortality closed areas; and (4) Development of gear modifications to further protect small scallops. The Advisory Panel will provide research recommendations for the 2017/18 Scallop Research Set-Aside (RSA) federal funding announcement and potentially discuss other RSA policies and program details. The Advisory Panel will give a brief update on the required five-year review of the limited access general category IFQ program. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 18, 2016.
Tracey L. Thompson,
Acting Deputy Director, Office of Sustainable Fisheries, National Marine Fisheries Service.

[FR Doc. 2016-12059 Filed 5-20-16; 8:45 am]

BILLING CODE 3510-22-P